ENVIRONMENTAL PROTECTION AGENCY

40 CFR Parts 156 and 165

[OPP-2004-0049; FRL-7674-4]

RIN 2070-AB95

Standards for Pesticide Containers and Containment; Extension of Comment Period

AGENCY: Environmental Protection Agency (EPA).

ACTION: Proposed rule; extension of comment period.

SUMMARY: EPA issued a notice in the Federal Register of June 30, 2004 to reopen the comment period for the 1994 proposed rule on pesticide containers and containment structures to solicit public input on issues or technology that would not have been available or could not have been addressed during previous public comment opportunities. This document is extending the comment period for 30 days beyond the current August 16, 2004 deadline.

DATES: Comments, identified by docket identification (ID) number OPP-2004-0049 must be received on or before September 15, 2004.

ADDRESSES: Follow the detailed instructions for submitting comments as provided in the ADDRESSES section of the Federal Register document of June 30, 2004 (OPP-2004-0049; 69 FR 39392). In addition, comments may be submitted through the Federal eRulemaking Portal: http://www.regulations.gov. Follow the online instructions for submitting comments.

FOR FURTHER INFORMATION CONTACT: Nancy Fitz, Field and External Affairs Division, (7506C), Office of Pesticide Programs, Environmental Protection Agency, 1200 Pennsylvania Ave., NW., Washington, DC 20460-0001; telephone number: (703) 305-7385; fax number: (703) 308-3259; e-mail address: fitz.nancy@epa.gov.

SUPPLEMENTARY INFORMATION:

I. General Information

A. Does This Action Apply to Me?

The Agency included in the proposed rule and the supplemental notice a list of those who may be potentially affected by this action. If you have questions regarding the applicability of this action to a particular entity, consult the person listed under FOR FURTHER INFORMATION CONTACT.

B. How Can I Access Electronic Copies of This Document and Other Related Information?

In addition to using EDOCKET (http://www.epa.gov/edocket/), you may access this Federal Register document electronically through the EPA Internet under the “Federal Register” listings at http://www.epa.gov/fedrgstr/. A frequently updated electronic version of 40 CFR parts 156 and 165 is available at E-CFR Beta Site Two at http://www.gpoaccess.gov/ecfr/.

II. What Action is EPA Taking?

This document extends the public comment period established in the Federal Register of June 30, 2004 (69 FR 39392). In that document, EPA reopened the comment period for the rulemaking titled “Standards for Pesticide Containers and Containment,” which was proposed on February 11, 1994 (59 FR 6712). In that document, EPA sought comment on proposed regulations for pesticide container design and residue removal and for containment structures at pesticide storage and container refilling operations. Because significant time has passed since the proposed rule in 1994 and a supplemental notice in 1999 (64 FR 56918, Oct. 21, 1999), EPA reopened the comment period for an additional 45 days to solicit public input on issues or technology relating to the proposed requirements that would not have been available or could not have been addressed during previous public comment opportunities. EPA is hereby extending the comment period, which was set to end on August 16, 2004, to September 15, 2004.

III. What is the Agency's Authority for Taking This Action?

The Federal Insecticide, Fungicide and Rodenticide Act (FIFRA) sections 19(e) and (f) grant EPA broad authority to establish standards and procedures to assure the safe use, reuse, storage, and disposal of pesticide containers. FIFRA section 19(e) requires EPA to promulgate regulations for “the design of pesticide containers that will promote the safe storage and disposal of pesticides.”

A request to extend the comment period in order to gather data for a response was received after the publication of the June 30, 2004 notice in the Federal Register. EPA is hereby extending the comment period by 30 days.

IV. Do Any Statutory and Executive Order Reviews Apply to this Action?

This notice neither proposes nor takes final action regarding any substantive requirements and is procedural in nature. This notice merely keeps the docket open for further comments on a rule that has already been proposed. Therefore, it is not subject to the statutory and executive order reviews generally applicable to proposed and final rules.

List of Subjects in 40 CFR Parts 156 and 165

Environmental protection, Packaging and containers, Pesticides and pests.

Dated: August 4, 2004.
Susan B. Hazen,
Acting Assistant Administrator for Prevention, Pesticides, and Toxic Substances.

[FR Doc. 04-18601 Filed 8-12-04; 8:45 am]

BILLING CODE 6560-50-S